DEPARTMENT OF HOMELAND SECURITY

Coast Guard

[USCG-2005-20517]

National Boating Safety Advisory Council

AGENCY: Coast Guard, DHS.

ACTION: Notice of meetings.

SUMMARY: The National Boating Safety Advisory Council (NBSAC) and its subcommittees on boats and associated equipment, aftermarket marine equipment, and prevention through people will meet to discuss various issues relating to recreational boating safety. All meetings will be open to the public.

DATES: NBSAC will meet on Saturday, April 9, 2005, from 1 p.m. to 5 p.m., on Monday, April 11, 2005, from 1:30 p.m. to 4:30 p.m., and on Tuesday, April 12, 2005, from 8:30 a.m. to 12 noon. The Prevention Through People Subcommittee will meet on Sunday, April 10, 2005, from 8:30 a.m. to 12 noon. The Boats and Associated Equipment Subcommittee will meet on Sunday, April 10, 2005, from 1:30 p.m. to 5 p.m. The Aftermarket Marine Equipment Subcommittee will meet on Monday, April 11, 2005, from 8:30 a.m. to 12 noon. These meetings may close early if all business is finished. On Sunday, April 10, a Subcommittee meeting may start earlier if the preceding Subcommittee meeting has closed early. Written material and requests to make oral presentations should reach the Coast Guard on or before Tuesday, March 22, 2005. Requests to have a copy of your material distributed to each member of the committee or subcommittees in advance of the meeting should reach the Coast Guard on or before Friday, March 11, 2005.

ADDRESSES: NBSAC will meet at the Radisson Summit Hill Knoxville Hotel, 401 Summit Hill Drive, Knoxville, TN 37902. The subcommittee meetings will be held at the same address. Send written material and requests to make oral presentations to Mr. Phil Cappel, Executive Director of NBSAC, Commandant (G-OPB-1), U.S. Coast Guard Headquarters, 2100 Second Street, SW., Washington, DC 20593-0001. This notice is available on the Internet at http://dms.dot.gov or at the Web site for the Office of Boating Safety at URL address http://www.uscgboating.org.

FOR FURTHER INFORMATION CONTACT: Phil Cappel, Executive Director of NBSAC, telephone 202-267-0988, fax 202-267-4285. You may obtain a copy of this notice by calling the U. S. Coast Guard Infoline at 1-800-368-5647.

SUPPLEMENTARY INFORMATION: Notice of these meetings is given under the Federal Advisory Committee Act, 5 U.S.C. App. 2.

Tentative Agendas of Meetings

National Boating Safety Advisory Council (NBSAC). The agenda includes the following:

(1) Remarks—Captain Scott H. Evans, Deputy Director of Operations Policy.

(2) Swearing in of recent appointees (includes new members and continued members).

(3) Chief, Office of Boating Safety Update on NBSAC Resolutions and Recreational Boating Safety Program report.

(4) Executive Director's report.

(5) Recreational Boating Safety Program Goal Setting Project.

(6) Chairman's session.

(7) Report from TSAC Liaison.

(8) Report from NAVSAC Liaison.

(9) Coast Guard Auxiliary report.

(10) National Association of State Boating Law Administrators Report.

(11) Wallop Breaux reauthorization update.

(12) Update on development of Vessel Identification System.

(13) Report on future boating studies.

(14) Prevention Through People Subcommittee report.

(15) Boats and Associated Equipment Subcommittee report.

(16) Aftermarket Marine Equipment Subcommittee report.

Boats and Associated Equipment Subcommittee. The agenda includes the following: Discuss current regulatory projects, grants, contracts and new issues impacting boats and associated equipment.

Aftermarket Marine Equipment Subcommittee. The agenda includes the following: Discuss current regulatory projects, grants, contracts and new issues impacting aftermarket marine equipment.

Prevention Through People Subcommittee. The agenda includes the following: Discuss current regulatory projects, grants, contracts and new issues impacting prevention through people.

Procedural

All meetings are open to the public. At the Chairs' discretion, members of the public may make oral presentations during the meetings. If you would like to make an oral presentation at a meeting, please notify the Executive Director of your request no later than Tuesday, March 22, 2005. Written material for distribution at a meeting should reach the Coast Guard no later than Tuesday, March 22, 2005. If you would like a copy of your material distributed to each member of the committee or subcommittee in advance of a meeting, please submit 25 copies to the Executive Director no later than Friday, March 11, 2005.

Information on Services for Individuals With Disabilities

For information on facilities or services for individuals with disabilities or to request special assistance at the meetings, contact the Executive Director as soon as possible.

Dated: March 4, 2005.
James W. Underwood,
Rear Admiral, U.S. Coast Guard, Director of Operations Policy.

[FR Doc. 05-4753 Filed 3-9-05; 8:45 am]

BILLING CODE 4910-15-P